DEPARTMENT OF COMMERCE

National Oceanic and Atmospheric Administration

DEPARTMENT OF THE INTERIOR

Fish and Wildlife Service

RIN 0648-XV36

Stanford University Habitat Conservation Plan

AGENCIES: National Marine Fisheries Service (NMFS), National Oceanic and Atmospheric Administration (NOAA), Commerce; Fish and Wildlife Service, Interior (DOI).

ACTION: Notice; correction.

SUMMARY: NMFS and FWS published a notice in the Federal Register on April 12, 2010, announcing the availability of the Stanford University Habitat Conservation Plan (Plan), the Draft Environmental Impact Statement (DEIS) for Authorization of Incidental Take and Implementation of the Plan, and the Implementing Agreement (IA) for public review and comment. The document contained incorrect dates and contact information.

DATES: This correction is effective May 18, 2010.

FOR FURTHER INFORMATION CONTACT: Gary Stern, 707-575-6060; or Sheila Larsen, 916-414-6600.

SUPPLEMENTARY INFORMATION:

Need for Correction

In the Federal Register of April 12, 2010, in FR Doc. 2010-8300, on page 18483, in the first column, correct the “DATES” paragraph to read:

DATES: Written comments on the DEIS, Plan, and IA, must be received by 5 p.m. Pacific Time on July 15, 2010.

In the same Federal Register notice, on page 18483, in the first column, correct the “FOR FURTHER INFORMATION CONTACT” paragraph to read:

FOR FURTHER INFORMATION CONTACT: (1) Ms. Sheila Larsen, Senior Staff Biologist, U.S. Fish and Wildlife Service at 2800 Cottage Way, Room W-2605, Sacramento, California 95825; telephone 916-414-6600; or (2) Gary Stern, San Francisco Bay Region Supervisor, National Marine Fisheries Service, 777 Sonoma Avenue, Room 325, Santa Rosa, CA 95404 ; telephone 707-575-6060.

Dated: May 11, 2010.
Angela Somma,
Chief, Endangered Species Division, Office of Protected Resources, National Marine Fisheries Service.

Dated: May 11, 2010.
Alexandra Pitts,
Acting Deputy Region Director, Pacific Southwest Region, U.S. Fish and Wildlife Service.

[FR Doc. 2010-11852 Filed 5-17-10; 8:45 am]

BILLING CODES 3510-22-S, 4310-55-S